DEPARTMENT OF LABOR

Employment And Training Administration

[TA-W-52,774]

Weyerhaeuser Company, North Bend, Oregon; Notice of Negative Determination on Reconsideration

On November 19, 2003, the Department issued an Affirmative Determination Regarding Application for Reconsideration for the workers and former workers of the subject firm. The notice was published in the Federal Register on January 2, 2004 (69 FR 117).

The Department denied Trade Adjustment Assistance (TAA) to workers of the subject firm because imports did not “contribute importantly” and a shift of production relating to the eligibility requirements of section 222(3) of the Trade Act of 1974, as amended, were not met. The workers produced corrugated medium. The investigation revealed neither significant increased imports of corrugated medium nor a shift of production abroad.

The petitioner requested reconsideration of the negative determination regarding both TAA and Alternative Trade Adjustment Assistance (ATAA). In the request for reconsideration, the petitioner alleges that workers' separations were caused by the increased imports of corrugated boxes and containerboard, the shift of production abroad, and the decreased need for packaging and shipping material due to the general shift of production of goods abroad. Workers at the subject firm as already indicated produced corrugated medium.

The petitioner alleges that increased imports of corrugated boxes and containerboard have reduced the need for corrugated medium. Corrugated boxes and containerboard are not “like or directly competitive” with the articles produced by the subject firm (corrugated medium). Corrugated medium is a component of containerboard and corrugated boxes. Corrugated medium is a fluted paper product used to make containerboard. Containerboard consists of a sheet of corrugated medium pressed between two sheets of flat paper. Pieces of containerboard are cut and assembled into corrugated boxes. Therefore, the imports of corrugated boxes and containerboard are not relevant in meeting the eligibility requirement of section 222 of the Trade Act of 1974, as amended.

Following the issuance of the Affirmative Determination Regarding Application for Reconsideration, the Department contacted the company to determine whether the subject company had increased import purchases of corrugated medium or shifted production abroad. The investigation revealed that the amount of corrugated medium imported was minimal and that the corrugated medium at issue was actually part of corrugated boxes that were used to ship other products.

The investigation also revealed that while the subject company has facilities outside the United States, the subject company did not shift production of corrugated medium abroad, but did shift production domestically in August 2003.

The alleged decreased need for packaging and shipping materials caused by decreased domestic production of goods due to overall shifts of production of goods abroad was not investigated because the decreased production of corrugated medium was not related to either increased imports of the same or like and directly competitive product or a shift of production abroad.

While the petitioner requested reconsideration regarding ATAA, the Department did not investigate whether the workers are eligible for this benefit since they are not eligible for TAA.

Conclusion

After reconsideration, I affirm the original notice of negative determination of eligibility to apply for worker adjustment assistance for workers and former workers of Weyerhaeuser Company, North Bend, Oregon.

Signed at Washington, DC, this 30th day of January, 2004.
Elliott S. Kushner,
Certifying Officer, Division of Trade Adjustment Assistance.

[FR Doc. E4-241 Filed 2-9-04; 8:45 am]

BILLING CODE 4510-13-P